GENERAL SERVICES ADMINISTRATION

Maximum Per Diem Rates for the Continental United States (CONUS)

AGENCY: Office of Governmentwide Policy, General Services Administration (GSA).

ACTION: Notice of FTR Bulletin 10-02, Relocation Allowance—Standard Mileage Rate for Moving Purposes.

SUMMARY: On December 3, 2009, the IRS announced a $0.075 cent decrease in the Standard Mileage Rate for moving purposes from $0.24 cents to $0.165 cents per mile. This new Standard Mileage Rate for moving purposes is effective January 1, 2010, through December 31, 2010. Thus, the reimbursement rate for privately owned vehicles (POV) used in conjunction with official relocation will also be $0.165 for the same period.

DATES: This notice is effective January 1, 2010, and applies for travel performed on January 1, 2010 through December 31, 2010.

FOR FURTHER INFORMATION CONTACT: For clarification of content, contact Mr. Ed Davis, Office of Governmentwide Policy (M), Office of Travel, Transportation, and Asset Management (MT), General Services Administration at (202) 208-7638 or via e-mail at ed.davis@gsa.gov. Please cite Notice of FTR Bulletin 10-02.

SUPPLEMENTARY INFORMATION:

Change in Standard Procedure

GSA issues/publishes the standard mileage rate for moving purposes in conjunction with relocation, formerly published in 41 CFR Chapter 302, solely on the Internet at http:www.gsa.gov/relopolicy. This process, implemented in 2008, ensures more timely updates in relocation mileage rates by GSA for Federal employees on official travel within CONUS. Notices published periodically in the Federal Register, such as this one, now constitute the only notification of revisions in the relocation mileage rate to Federal agencies.

Dated: March 3, 2010.
Becky Rhodes,
Deputy Associate Administrator.

[FR Doc. 2010-5832 Filed 3-16-10; 8:45 am]

BILLING CODE 6820-14-P